DEPARTMENT OF AGRICULTURE

Submission for OMB Review; Comment Request

March 19, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Animal Care; Survey of Licensees and Registrants.

OMB Control Number: 0579-NEW.

Summary of Collection: The Laboratory Animal Welfare (AWA) (Pub. L. 89-544) enacted August 24, 1966, and amended December 24, 1970 (Pub. L. 91-579); April 22, 1976 (Pub. L. 94-279); and December 23, 1985 (Pub. L. 99-198) requires the U.S. Department of Agriculture to regulate the humane care and handling of most warm-blooded animals used for research or exhibition purposes, sold as pets or transported in commerce. A survey will be conducted of a representative sampling of all of the current licensees and registrants regarding the effectiveness of Animal Care's core business processes, including; establishing standards of care through creation and modification of regulations and policies; inspecting licensed and registered facilities to determine compliance; responding to complaints about facilities; and educating and communicating with facilities and the public. Data will be collected and analyzed by the Animal and Plant Health Inspection Service (APHIS), Program and Policy Development.

Need and Use of the Information: APHIS will collect information to show trends related to the Animal Care Program's efforts to provide quality services to its licensees and registrants. Without the information APHIS would not be able to accurately measure the enforcement of the program and still meet the provision of the Act.

Description of Respondents: Not-for-profit institutions.

Number of Respondents: 4,200.

Frequency of Responses: Reporting: On occasion.

Total Burden Hours: 672.

Animal and Plant Health Inspection Service

Title: Animal Care; Educational and Outreach Efforts.

OMB Control Number: 0579-NEW.

Summary of Collection: The Animal and Plant Health Inspection Service (APHIS), Animal Care Program (AC), conducts inspections to administer and enforce the Animal Welfare Act and the Horse Protection Act and regulations issued under those Acts. AC also conducts workshops, symposia, and meetings, and other activities to educate regulated entities and the public about these Acts and regulations. AC plans to survey participants in these activities to measure the effectiveness of its outreach and educational efforts. The surveys would be distributed to attendees following workshops, symposia, meetings, and other events.

Need and Use of the Information: APHIS will collect information to determine whether the information was helpful and how it might be improved. AC also plans to use the information collected to assess the effectiveness of its efforts and to plan improvements to activities.

Description of Respondents: Business or other for-profit; Not-for-profit institutions; Individuals or households.

Number of Respondents: 2,700.

Frequency of Responses: Reporting: On occasion.

Total Burden Hours: 675.

Animal and Plant Health Inspection Service

Title: Survey of Organizations Interested in Animal Welfare.

OMB Control Number: 0579-NEW.

Summary of Collection: The Laboratory Animal Welfare (AWA) (Pub. L. 89-544) enacted August 24, 1966, and amended December 24, 1970 (Pub. L. 91-579); April 22, 1976 (Pub. L. 94-279); and December 23, 1985 (Pub. L. 99-198) requires the U.S. Department of Agriculture to regulate the humane care and handling of most warm-blooded animals used for research or exhibition purposes, sold as pets or transported in commerce. A survey will be conducted of a representative sampling of Organizations Interested in Animal Welfare regarding the effectiveness of Animal Care's core business processes, including establishing standards of care through creation and modification of regulations and policies; inspecting licensed and registered facilities; and educating and communicating with facilities and the public. Data will be collected and analyzed by the Animal and Plant Health Inspection Service (APHIS), Program and Policy Division.

Need and Use of the Information: APHIS will collect information to understand how these interested organizations rate overall program performance, and whether there are any gaps between their expectations and management perception.

Description of Respondents: Not-for-profit institutions.

Number of Respondents: 500.

Frequency of Responses: Reporting: On occasion.

Total Burden Hours: 80.

Animal Plant and Health Inspection Service

Title: Pine Shoot Beetle Host Material from Canada.

OMB Control Number: 0579-0257.

Summary of Collection: Under the Plant Protection Act (7 U.S.C. 7701-7772), the Secretary of Agriculture is authorized to prohibit or restrict the importation, entry, or movement of plants and plant pests to prevent the introduction of plant pests into the United States or their dissemination within the United States. The Animal Plant and Health Inspection Service (APHIS) have established restrictions on the importation of pine shoot beetle host material into the United States from Canada. Pine shoot beetle (PSB) is a pest of pine trees. It can cause damage in weak and dying trees where reproductive and immature stages of PSB occur, and in the new growth of healthy trees. PSB can damage urban ornamental trees and can cause economic losses to the timber, Christmas trees, and nursery industries.

Need and Use of the Information: APHIS will collect the information using Compliance Agreements, Written Statements, and Canadian Phytosanitary Certificates to protect the United States from the introduction of pine shoot beetle and other plant diseases.

Description of Respondents: Business or other for profit; State, Local or Tribal Government.

Number of Respondents: 2,340.

Frequency of Responses: Reporting: On occasion.

Total Burden Hours: 94.

Ruth Brown,
Departmental Information Collection Clearance Officer.

[FR Doc. E8-5940 Filed 3-24-08; 8:45 am]

BILLING CODE 3410-34-P